AGENCY FOR INTERNATIONAL DEVELOPMENT

Notice of Public Information Collection Requirements Submitted to OMB for Review

SUMMARY: U.S. Agency for International Development (USAID) has submitted the following information collection to OMB for review and clearance under the Paperwork Reduction Act of 1995, Public Law 104-13. Comments regarding this information collection are best assured of having their full effect if received within 30 days of this notification. Comments should be addressed to: Desk Officer for USAID, Office of Information and Regulatory Affairs, Office of Management and Budget (OMB), Washington DC 20503. Copies of submission may be obtained by calling (202) 712-5007.

SUPPLEMENTARY INFORMATION:

OMB Number: OMB 0412-059.

Form Number: AID Form 566-01, AID 566-02, AID 566-03, AID 566-04 and AID 566-05.

Title: Inquiry for Employment, Residence, Personal, Education and Law.

Type of Submission: Reinstatement of Information Collection.

Purpose: USAID is required by Executive order that Background investigations be conducted on all persons entering Federal Service. 5 U.S.C. 3301 and 5 CFR 5.2 require that investigations and determinations be made concerning the qualifications and fitness of applicants for federal employment. A National Agency Check and written inquiries are the minimum investigation required for employment in any department or agency of the Government as prescribed in Section 3(a) of the Executive Order 10450.

Annual Reporting Burden

Respondents: 120.

Total annual responses: 120.

Total annual hours requested: 30.

Dated: March 11, 2013.
Lynn P. Winston,
Chief, Bureau for Management, Office of Management Services, Information and Records Division, U.S. Agency for International Development.

[FR Doc. 2013-06192 Filed 3-19-13; 8:45 am]

BILLING CODE 6116-01-M